SECURITIES AND EXCHANGE COMMISSION

File No. 500-1

In the Matter of Circuit Systems, Inc., Global Energy Group, Inc., Integrated Medical Resources, Inc., iNTELEFILM Corp., and Lot$off Corp.; Order of Suspension of Trading

April 4, 2011.

It appears to the Securities and Exchange Commission that there is a lack of current and accurate information concerning the securities of Circuit Systems, Inc. because it has not filed any periodic reports since the period ended January 31, 2000.

It appears to the Securities and Exchange Commission that there is a lack of current and accurate information concerning the securities of Global Energy Group, Inc. because it has not filed any periodic reports since the period ended September 30, 2006.

It appears to the Securities and Exchange Commission that there is a lack of current and accurate information concerning the securities of Integrated Medical Resources, Inc. because it has not filed any periodic reports since the period ended September 30, 1998.

It appears to the Securities and Exchange Commission that there is a lack of current and accurate information concerning the securities of iNTELEFILM Corp. because it has not filed any periodic reports since the period ended March 31, 2002.

It appears to the Securities and Exchange Commission that there is a lack of current and accurate information concerning the securities of Lot$off Corp. because it has not filed any periodic reports since the period ended October 30, 1998.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 4, 2011, through 11:59 p.m. EDT on April 15, 2011.

By the Commission.
Jill M. Peterson,
Assistant Secretary.

[FR Doc. 2011-8291 Filed 4-4-11; 4:15 pm]

BILLING CODE 8011-01-P